DEPARTMENT OF TRANSPORTATION

Federal Aviation Administration

14 CFR Part 39

[Docket No. 99-CE-28-AD]

RIN 2120-AA64

Airworthiness Directives; Reims Aviation S.A. Model F406 Airplanes

AGENCY: Federal Aviation Administration, DOT.

ACTION: Notice of proposed rulemaking (NPRM).

SUMMARY: This document proposes to adopt a new airworthiness directive (AD) that would apply to certain Reims Aviation S.A. (Reims) Model F406 airplanes. The proposed AD would require repetitively inspecting the canted rib upper cap in the center wing carry-through area for cracks, and, if cracks are found, immediately repairing the cracks or modifying this area depending on the extent of any cracks found. The proposed AD would also require modifying the canted rib upper cap at a certain time period as terminating action for the proposed repetitive inspections. The proposed AD is the result of mandatory continuing airworthiness information (MCAI) issued by the airworthiness authority for France. The actions specified by the proposed AD are intended to detect and correct cracks in the canted rib upper cap in the center wing carry-through area, which could result in structural failure of the wing with possible loss of control of the airplane.

DATES: The Federal Aviation Administration (FAA) must receive any comments on this proposed rule by September 18, 2001.

ADDRESSES: Send comments in triplicate to FAA, Central Region, Office of the Regional Counsel, Attention: Rules Docket No. 99-CE-28-AD, 901 Locust, Room 506, Kansas City, Missouri 64106. You may look at comments at this location between 8 a.m. and 4 p.m., Monday through Friday, except holidays.

You may get service information that applies to the proposed AD from the Cessna Aircraft Company, Product Support, P.O. Box 7706, Wichita, Kansas 67277; telephone: (316) 517-5800; facsimile: (316) 942-9006. You may read this information at the Rules Docket at the address above.

FOR FURTHER INFORMATION CONTACT: Brian A. Hancock, Aerospace Engineer, FAA, Small Airplane Directorate, 901 Locust, Room 301, Kansas City, Missouri 64106; telephone: (816) 329-4143, facsimile: (816) 329-4090.

SUPPLEMENTARY INFORMATION:

Comments Invited

How Do I Comment on the Proposed AD?

The FAA invites comments on this proposed rule. You may send whatever written data, views, or arguments you choose. You need to include the rule's docket number and send your comments in triplicate to the address specified under the caption ADDRESSES. The FAA will consider all comments received by the closing date. We may amend the proposed rule in light of comments received. Factual information that supports your ideas and suggestions is extremely helpful in evaluating the effectiveness of the proposed AD action and determining whether we need to take additional rulemaking action.

Are There Any Specific Portions of the Proposed AD I Should Pay Attention to?

The FAA specifically invites comments on the overall regulatory, economic, environmental, and energy aspects of the proposed rule that might suggest a need to modify the rule. You may read all comments we receive about the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clear, and any other suggestions you might have to improve the clarity of FAA communications that affect you. You can get more information about the Presidential memorandum and the plain language initiative at http://www.faa.gov/language/.

How Can I Be Sure FAA Receives My Comment?

If you want us to acknowledge the receipt of your comments, you must include a self-addressed, stamped postcard. On the postcard, write “Comments to Docket No. 99-CE-28-AD.” We will date stamp and mail the postcard back to you.

Discussion

What Events Have Caused This Proposed AD?

The Direction Generale De L'Aviation Civile (DGAC), which is the airworthiness authority for France, notified the FAA that an unsafe condition may exist on certain Reims F406 airplanes. The DGAC reports that a crack was found in the canted rib upper cap in the center wing carry-through area during a routine inspection of one of the affected airplanes.

What Are the Consequences if the Condition Is Not Corrected?

This condition, if not detected and corrected in a timely manner, could result in structural failure of the wing with possible loss of control of the airplane.

Is There Service Information That Applies to This Subject?

Cessna has issued REIMS/CESSNA Service Bulletin CAB98-16, dated November 2, 1998.

What are the Provisions of This Service Bulletin?

This service bulletin specifies procedures for:

—Inspecting the canted rib upper cap in the center wing carry-through area for cracks; and

—Modifying this area.

What Action Did the DGAC Take?

The DGAC classified this service bulletin as mandatory and issued French AD 1999-087(A), dated February 24, 1999, in order to assure the continued airworthiness of these airplanes in France.

Was This in Accordance With the Bilateral Airworthiness Agreement?

This airplane model is manufactured in France and is type certificated for operation in the United States under the provisions of section 21.29 of the Federal Aviation Regulations (14 CFR 21.29) and the applicable bilateral airworthiness agreement. Pursuant to this bilateral airworthiness agreement, the DGAC has kept FAA informed of the situation described above.

The FAA's Determination and an Explanation of the Provisions of the Proposed AD What Has FAA Decided?

The FAA has examined the findings of the DGAC; reviewed all available information, including the service information referenced above; and determined that:

—The unsafe condition referenced in this document exists or could develop on other Reims Model F406 airplanes of the same type design;

—The actions specified in the previously-referenced service information should be done on the affected airplanes; and

—AD action should be taken in order to correct this unsafe condition.

What Would the Proposed AD Require?

This proposed AD would require you to do the actions specified in the previously-referenced service information.

Cost Impact

How Many Airplanes Would the Proposed AD Impact?

We estimate that the proposed AD affects 4 airplanes in the U.S. registry.

What Would Be the Cost Impact of the Proposed AD on Owners/Operators of the Affected Airplanes?

We estimate the following costs to do the proposed inspections:

Labor cost | Parts cost | Total cost per airplane | Total cost on U.S. operators
4 inspections × 3 workhours × $60 per hour = $720 | Not applicable | $720 | $2,880

We estimate the following costs to do any necessary modifications that would be required because of the proposed inspection:

Labor cost | Parts cost | Total cost per airplane | Total cost on U.S. operators
60 workhours × $60 per hour = $3,600 | $3,375 | $6,975 | $27,900

Regulatory Flexibility Determination and Analysis

What Are the Requirements of the Regulatory Flexibility Act?

The Regulatory Flexibility Act of 1980 was enacted by Congress to assure that small entities are not unnecessarily or disproportionately burdened by government regulations. This Act establishes “as principle of regulatory issuance that agencies shall endeavor, consistent with the objectives of the rule and of applicable statutes, to fit regulatory and informational requirements to the scale of the businesses, organizations, and governmental jurisdictions subject to regulation.” To achieve this principle, the Act requires agencies to solicit and consider flexible regulatory proposals and to explain the rationale for their actions. The Act covers a wide range of small entities, including small businesses, not-for-profit organizations, and small governmental jurisdictions.

Agencies must perform a review to determine whether a proposed or final rule will have a significant economic impact on a substantial number of small entities. If the determination is that the rule will, the Agency must prepare a regulatory flexibility analysis as described in the RFA.

However, if an agency determines that a proposed or final rule is not expected to have a significant economic impact on a substantial number of small entities, section 605(b) of the RFA provides that the head of the agency may so certify and a regulatory flexibility analysis is not required. The certification must include a statement providing the factual basis for this determination, and the reasoning should be clear.

What Is FAA's Determination?

The FAA has determined that this proposed rule would not have a significant economic impact on a substantial number of small entities. Reims Aviation Model F406 aircraft are produced in France and only 4 airplanes are owned by U.S. entities. Of these 4 airplanes, Cessna Finance Corporation owns 2. Cessna Finance Corporation is part of a larger corporation with more than 1,500 employees and is not considered a small entity. The FAA does not believe that the two remaining entities owning the F406 aircraft constitute a substantial number. Therefore, FAA has determined that this proposed rule will not have a significant economic impact on a substantial number of small entities.

Regulatory Impact

Would This Proposed AD Impact Various Entities?

The regulations proposed herein would not have a substantial direct effect on the States, on the relationship between the national government and the States, or on the distribution of power and responsibilities among the various levels of government. Therefore, I have determined that this proposed rule would not have federalism implications under Executive Order 13132.

Would This Proposed AD Involve a Significant Rule or Regulatory Action?

For the reasons discussed above, I certify that this action (1) Is not a “significant regulatory action” under Executive Order 12866; (2) is not a “significant rule” under DOT Regulatory Policies and Procedures (44 FR 11034, February 26, 1979); and (3) if issued, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Reims Aviation S.A.: Docket No. 99-CE-28-AD.

(a) What airplanes are affected by this AD? This AD affects Model F406 airplanes, serial numbers F406-0001 through F406-0083, certificated in any category.

(b) Who must comply with this AD? Anyone who wishes to operate any of the above airplanes must comply with this AD.

(c) What problem does this AD address? The actions specified by this AD are intended to detect and correct cracks in the canted rib upper cap in the center wing carry-through area, which could result in structural failure of the wing with possible loss of control of the airplane.

(d) What actions must I accomplish to address this problem? To address this problem, unless already done, you must do the following:

Action | Compliance time | Procedures
(1) Inspect the canted rib upper cap in the center wing carry-through area for cracks | Within the next 75 hours time-in-service (TIS) after the effective date of this AD, and thereafter at 200-hour TIS intervals, but not to exceed three 200-hour interval inspections (675 hours TIS: 75-hour TIS initial inspection plus three additional 200-hour TIS repetitive inspections) | Following the ACCOMPLISHMENT INSTRUCTIONS section of REIMS/CESSNA Service Bulletin CAB98-16, dated November 2, 1998.
(2) If, during any inspection required by this AD, cracks are found, accomplish the following: (i) If the cracks are less than 2 inches in length, modify the canted rib upper cap in the center wing carry-through area. (ii) If the cracks are 2 inches in length or more, obtain a repair scheme from the manufacturer through FAA at the address specified in paragraph (h) of this AD and incorporate this repair scheme | Before further flight after the inspection where the crack is found | Following the ACCOMPLISHMENT INSTRUCTIONS section of REIMS/CESSNA Service Bulletin CAB98-16, dated November 2, 1998.
(3) Modify the canted rib upper cap in the center wing carry-through area | Within 600 hours TIS after the initial inspection required by paragraph (d)(1) of this AD, unless already accomplished through paragraphs (d)(2)(i) or (d)(2)(ii) of this AD | Following the ACCOMPLISHMENT INSTRUCTIONS section of RIMS/CESSNA Service Bulletin CAB98-16, dated November 2, 1998.
(4) Accomplishing the repair or modification required in paragraphs (d)(2)(i), (d)(2)(ii), or (d)(3) of this AD is considered terminating action for the inspection requirements of this AD | Not applicable | Not applicable.

(e) Can I comply with this AD in any other way? You may use an alternative method of compliance or adjust the compliance time if:

(1) Your alternative method of compliance provides an equivalent level of safety; and

(2) The Manager, Small Airplane Directorate, approves your alternative. Send your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance following paragraph (e) of this AD. The request should include an assessment of the effect of the modification, alteration, or repair on the unsafe condition addressed by this AD; and, if you have not eliminated the unsafe condition, specific proposed actions you propose to address it.

(f) Where can I get information about any already-approved alternative methods of compliance? Contact Brian A. Hancock, Aerospace Engineer, FAA, Small Airplane Directorate, 901 Locust, Room 301, Kansas City, Missouri 64106; telephone: (816) 329-4143, facsimile: (816) 329-4090.

(g) What if I need to fly the airplane to another location to comply with this AD? The FAA can issue a special flight permit under sections 21.197 and 21.199 of the Federal Aviation Regulations (14 CFR 21.197 and 21.199) to operate your airplane to a location where you can do the requirements of this AD.

(h) How can I get copies of the documents referenced in this AD? You may get copies of the documents referenced in this AD from the Cessna Aircraft Company, Product Support, P.O. Box 7706, Wichita, Kansas 67277; telephone: (316) 517-5800; facsimile: (316) 942-9006. You may read these documents at FAA, Central Region, Office of the Regional Counsel, 901 Locust, Room 506, Kansas City, Missouri 64106.

Note 2: The subject of this AD is addressed in French AD 1999-087(A), dated February 24, 1999.

Issued in Kansas City, Missouri, on August 13, 2001.
Michael Gallagher,
Manager, Small Airplane Directorate, Aircraft Certification Service.

[FR Doc. 01-20940 Filed 8-20-01; 8:45 am]

BILLING CODE 4910-13-P